NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (CEOSE) Advisory Committee Meeting (1173)

Dates/Time: February 11, 2014, 1 p.m.-5:30 p.m. February 12, 2014, 9 a.m.-3:30 p.m.

Place: National Science Foundation (NSF), 4201 Wilson Boulevard, Arlington, VA 22230

To help facilitate your entry into the building, contact the individual listed below. Your request to attend this meeting should be received by email (gfarves@nsf.gov) on or prior to February 7, 2014.

Type Of Meeting: Open

Contact Person: Dr. Bernice Anderson, Senior Advisor and CEOSE Executive Secretary, Office of International and Integrative Activities, National Science Foundation, 4201 Wilson Boulevard, Arlington, VA 22230. Telephone Numbers: (703) 292-5151/703-292-8040 banderso@nsf.gov

Minutes: Meeting minutes and other information may be obtained from the CEOSE Executive Secretary at the above address or the Web site at http://www.nsf.gov/od/iia/activities/ceose/index.jsp

Purpose Of Meeting: To study data, programs, policies, and other information pertinent to the National Science Foundation and to provide advice and recommendations concerning broadening participation in science and engineering.

Agenda: Opening Statement by the CEOSE Chair

Presentations and Discussions:

• Delivery of the 2011-2012 Biennial CEOSE Report

• Discussion of Key Points from the Meetings with the National Science Foundation Acting Director and/or CEOSE officers

• Update of Broadening Participation Activities by the CEOSE Executive Liaison

• Reports of CEOSE Liaisons to NSF Advisory Committees

• Interdisciplinarity and Inclusion

• International Engagement

• Discussion by Federal Agency Liaisons About Interagency Broadening Participation Activities

• Transparency and Accountability

• Panel Discussion about the Significance of Financial Support for Underrepresented Groups in STEM

• Discussion with Dr. Cora B. Marrett, Acting Director of the National Science Foundation

Discussion of CEOSE Unfinished Business and New Business

Dated: January 17, 2014.
Susanne Bolton,
Committee Management Officer.

[FR Doc. 2014-01324 Filed 1-23-14; 8:45 am]

BILLING CODE 7555-01-P